FEDERAL ELECTION COMMISSION

Sunshine Act Meeting

Date and Time: Tuesday, March 30, 2004 at 10 a.m.

Place: 999 E Street, NW., Washington, DC.

Status: This meeting will be closed to the public.

Items to be Discussed: Compliance matters pursuant to 2 U.S.C. 437g.

Audits conducted pursuant to 2 U.S.C. 437g, 438(b), and Title 26, U.S.C.

Matters concerning participation in civil actions or proceedings or arbitration.

Internal personnel rules and procedures or matters affecting a particular employee.

Date and Time: Thursday, April 1, 2004 at 10 a.m.

Place: 999 E Street, NW., Washington, DC, (Ninth Floor).

Status: This meeting will be open to the public.

Items to be Discussed: Correction and Approval of Minutes.

Legislative Recommendations 2004.

Draft Advisory Opinion 2004-07: Viacom/MTV by counsel, Elizabeth Kingsley.

Draft Advisory Opinion 2004-08: American Sugar Cane League by counsel, Paul G. Borron, III.

Draft Advisory Opinion 2004-09: Green-Rainbow Party by Grace Ross and David Ebony Allen Barkley, Co-Chairs.

Notice of Proposed Rulemaking on Inaugural Committees.

Notice of Proposed Rulemaking on Contributions and Donations by Minors.

Routine Administrative Matters.

Person to Contact for Information: Robert W. Biersack, Acting Press Officer, Telephone: (202) 694-1220.

Mary W. Dove,
Secretary of the Commission.

[FR Doc. 04-6866 Filed 3-23-04; 3:01 pm]

BILLING CODE 6715-01-M